DEPARTMENT OF LABOR

Employment and Training Administration

[TA-W-61,293]

Georgia Pacific Corrugated Number 1 LLC A.K.A. Great Northern Nekoosa Corporation, Ridgeway, VA; Notice of Negative Determination Regarding Application for Reconsideration

By application dated June 6, 2007, the petitioner requested administrative reconsideration of the Department's negative determination regarding eligibility to apply for Trade Adjustment Assistance (TAA), applicable to workers and former workers of the subject firm. The denial notice was signed on May 10, 2007 and published in the Federal Register on May 24, 2007 (72 FR 29182).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The petition for the workers of Georgia Pacific Corrugated Number 1 LLC, a.k.a. Great Northern Nekoosa Corporation, Ridgeway, Virginia engaged in production of corrugated packaging was denied because the “contributed importantly” group eligibility requirement of Section 222 of the Trade Act of 1974, as amended, was not met, nor was there a shift in production from that firm to a foreign country in 2005, 2006 and January through March of 2007. The “contributed importantly” test is generally demonstrated through a survey of the workers' firm's declining customers. The survey revealed no imports of corrugated packaging by declining customers during the relevant period. The subject firm did not import corrugated packaging nor shift production to a foreign country during the relevant period.

The petitioner states that the affected workers lost their jobs as a direct result of a loss of customers in the textile and furniture industry. The petitioner alleges that customers of the subject firm which manufacture textile products and furniture decreased purchases of corrugated packaging from the subject firm because their business was in its turn negatively impacted by increased imports of textiles and furniture. As a result, several of the customers were certified eligible for TAA. Therefore, the petitioner concludes that because sales and production of corrugated packaging at the subject firm have been negatively impacted by the closure of other businesses in the area and by increasing presence of foreign imports of textile products and furniture on the market, workers of the subject firm should be eligible for TAA.

In order to establish import impact, the Department must consider imports that are like or directly competitive with those produced at the subject firm. The Department conducted a survey of the subject firm's major declining customer regarding their purchases of corrugated packaging. The survey revealed that the declining customers did not increase their imports of corrugated packaging during the relevant period.

Imports of textiles and furniture cannot be considered like or directly competitive with corrugated packaging produced by Georgia Pacific Corrugated Number 1, LLC, Ridgeway, Virginia and imports of textiles and furniture are not relevant in this investigation.

The fact that subject firm's customers were certified for TAA is relevant to this investigation if determining whether workers of the subject firm are eligible for TAA based on the secondary upstream supplier of trade certified primary firm impact. For certification on the basis of the workers' firm being a secondary upstream supplier, the subject firm must produce a component part of the article that was the basis for the customers' certification.

In this case, however, the subject firm does not act as an upstream supplier, because corrugated packaging does not form a component part of textile products and furniture. Thus the subject firm workers are not eligible under secondary impact.

Conclusion

After review of the application and investigative findings, I conclude that there has been no error or misinterpretation of the law or of the facts which would justify reconsideration of the Department of Labor's prior decision. Accordingly, the application is denied.

Signed in Washington, DC, this 20th day of June, 2007.
Elliott S. Kushner,
Certifying Officer, Division of Trade Adjustment Assistance.

[FR Doc. E7-12518 Filed 6-27-07; 8:45 am]

BILLING CODE 4510-FN-P